ELECTION ASSISTANCE COMMISSION

Sunshine Act Meeting Notice

AGENCY: U.S. Election Assistance Commission.

ACTION: Notice of Virtual Public Forum for EAC Standards Board.

DATE AND TIME: Monday, July 11, 2011, 9 a.m. EDT through Friday, July 22, 2011, 5 p.m. EDT.

PLACE: EAC Standards Board Virtual Public Forum at http://www.eac.gov/virtual_public_forum.aspx. Once at the main page of EAC's Web site, viewers should click the link to the Virtual Public Forum. The virtual public forum will open on Monday, July 11, 2011, at 9 a.m. EDT and will close on Friday, July 22, 2011, at 5 p.m. EDT. The site will be available 24 hours per day during that 12-day period.

PURPOSE: The EAC Standards Board will review and provide feedback on the EAC's Status Resolutions Update, which is an update on actions taken regarding Standards Board resolutions.

The EAC Standards Board Virtual Public Forum was established to enable the Standards Board to provide comment in an efficient manner in a public forum, including being able to review and discuss draft documents when it is not feasible for an in-person board meeting. The Standards Board will not take any votes or propose any resolutions during the 12-day forum of July 11-July 22, 2011.

This activity is open for public observation. the public may view the proceedings of this special forum by visiting the EAC Standards Board Virtual Public Forum at http://www.eac.gov/virtual_public_forum.aspx any time between Monday, July 11, 2011, 9 a.m. EDT and Friday, July 22, 2011, 5 p.m. EDT. The public also may view the resolution status update, which will be posted on EAC'S Web site beginning July 11, 2011. The public may file written statements to the EAC Standards Board at STANDARDSBOARD@EAC.GOV and by copying Sharmili Edwards at SEDWARDS@EAC.GOV. Data on EAC'S Web site is accessible to visitors with disabilities and meets the requirements of Section 508 of the Rehabilitation Act.

PERSON TO CONTACT FOR INFORMATION: Bryan Whitener, Telephone: (202) 566-3100.

Gineen M. Bresso,
Commissioner, U.S. Election Assistance Commission.

[FR Doc. 2011-14847 Filed 6-10-11; 4:15 pm]

BILLING CODE 6820-KF-P